FEDERAL MARITIME COMMISSION

[Docket No. 22-21]

MSRF, Inc., Complainant v. Yang Ming Transport Corporation, Respondent; Notice of Filing of Complaint and Assignment

Served: August 19, 2022.

Notice is given that a complaint has been filed with the Federal Maritime Commission (Commission) by MSRF, Inc. (MSRF), hereinafter “Complainant”, against Yang Ming Transport Corporation (Yang Ming), hereinafter “Respondent”. Complainant alleges that Respondent is a vessel-operating common carriers organized under the laws of Taiwan.

Complainant alleges that Respondent violated 46 U.S.C. 41102(c), 41104(a)(2), 41104(a)(5), 41104(a)(9), and 41104(a)(10), regarding its practices and the rates and terms of its service contract. The full text of the complaint can be found in the Commission's Electronic Reading Room at https://www2.fmc.gov/readingroom/proceeding/22-21/.

This proceeding has been assigned to Office of Administrative Law Judges. The initial decision of the presiding officer in this proceeding shall be issued by August 19, 2023, and the final decision of the Commission shall be issued by March 4, 2024.

William Cody,
Secretary.

[FR Doc. 2022-18240 Filed 8-23-22; 8:45 am]

BILLING CODE 6730-02-P